DEPARTMENT OF THE INTERIOR

Bureau of Land Management

[AA210-00-1610-01-2410]

Public Land and Resources; Planning, Programming and Budgeting

AGENCY: Bureau of Land Management, Interior.

ACTION: Extension of comment period for draft land use planning manual and handbook.

SUMMARY: The Bureau of Land Management (BLM) is developing a new manual and handbook for preparing land use plans and is extending by 30 days the time period for the public to review the proposed guidance and provide comments.

DATES: Send your comments on the draft land use planning manual and handbook to reach BLM by August 9, 2000.

ADDRESSES: Mail your comments to the Bureau of Land Management (WO-210), Attention: Ted Milesnick, 1849 C Street NW., (LS-1050), Washington, DC, 20240-0001 or send them electronically to wo210.blm.gov.

Copies of the draft land use planning manual and handbook may be obtained from any of the following sources: the Internet at www.blm.gov; the BLM Washington Office (U.S. Department of the Interior, BLM, Planning, Assessment and Community Support Group (WO-210), 1849 C Street, NW., (LS-1050), Washington, DC. 20240-0001); or from any BLM State Office or Field Office.

FOR FURTHER INFORMATION CONTACT: Ted Milesnick at (202) 452-7727, Ann Aldrich at (202) 452-7722, or Paul Politzer at (202) 452-0349.

SUPPLEMENTARY INFORMATION: The notice of availability and additional supplementary information for the Draft Land Use Planning Manual and Handbook were published in the Federal Register on May 30, 2000 (65 FR 34495), with a comment period expiring July 10, 2000. The BLM has received requests from the public to extend the comment period on the draft planning guidance. We recognize the value of public input on the draft guidance and therefore are extending the comment period for 30 days. We are limiting the extension to 30 days because of our desire to fully consider all comments and finalize the manual and handbook so that they can be used to guide the development of numerous planning efforts scheduled to begin October 1, 2000, the beginning of Fiscal Year 2001.

Dated: June 27, 2000.
Sherry Barnett,
Acting Assistant Director, Renewable Resources and Planning.

[FR Doc. 00-16659 Filed 6-29-00; 8:45 am]

BILLING CODE 4310-84-P